NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 18, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR part 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-016

1. Applicant: Kate Raisz, 42 Degrees North Media, 685 Centre Street, Suite 201, Boston, MA 02130

Activity for Which Permit is Requested: Enter Antarctic Specially Protected Area. The applicant proposes to enter Antarctic Specially Protected Area (ASPA) 113, Litchfield Island to produce an educational film about the ecological research of Dr. Natasja van Gestel within the ASPA. All visits will be in accordance with the management plan for ASPA 113 and the two person film team would only enter the ASPA accompanied by Dr. van Gestel.

Location: ASPA 113—Litchfield Island, Arthur Harbor, Anvers Island, Palmer Archipelago.

Dates of Permitted Activities: 11 January, 2025-21 January, 2025.

Permit Application: 2025-017

2. Applicant: Jesse Casana, Department of Anthropology, 3 Tuck Dr., Dartmouth College, Hanover, NH

Activity for Which Permit is Requested: Enter Antarctic Specially Protected Area. The applicant seeks an ACA permit to enter a number of Antarctic Specially Protected Areas (ASPA) listed below in association with a systematic archaeological survey of the South Shetland Island and the Antarctic Peninsula region to document known archaeological sites. Surveys would be entirely non-destructive and non-invasive, using surface based mapping and remote sensing. Surveys would in part use Remotely Piloted Aircraft Systems (RPAS), as well as being conducted on foot. Small geologic samples would be collected at key sites for radiocarbon dating. No disturbance of wildlife would occur.

Location: ASPA 112—Coppermine Peninsula, Robert Island; ASPA 125—Fildes Peninsula, King George Island; ASPA 126—Byers Peninsula, Livingston Island; ASPA 128—Western Shore of Admiralty Bay, King George Island; ASPA 132—Potter Peninsula, King George Island; ASPA 133—Harmony Cove, Nelson Island; ASPA 148—Mount Flora, Hope Bay; ASPA 149—Cape Sherriff, Livingston Island; ASPA 150—Maxwell Bay, King George Island; ASPA 151—Lion's Rump, King George Island; ASPA 171—Narebski Point, King George Island.

Dates of Permitted Activities: 2 February, 2025-2 March, 2025.

Permit Application: 2025-018

3. Applicant: Jesse Casana, Department of Anthropology, 3 Tuck Dr., Dartmouth College, Hanover, NH

Activity for Which Permit is Requested: Waste Management. The applicant seeks an ACA permit for waste management activities in association with the use of a Remotely Piloted Aircraft System (RPAS) in Antarctica to be used to conduct archaeological surveys. RPAS would only be flown by experienced pilots in fair weather conditions and any flights within Antarctic Specially Protected Areas (ASPA) would occur under a permit and according to the management plan for each ASPA. No overflight of wildlife would occur, and no flights would occur within 930 m of wildlife. Additionally, the RPAS would not be flown higher than 120 m above ground level. A number of mitigation measures would be in place to prevent loss of the RPAS.

Location: Sites/area.

Dates of Permitted Activities: Dates.

Alina Pavao,
Administrative Assistant, Office of Polar Programs.

[FR Doc. 2024-23918 Filed 10-16-24; 8:45 am]

BILLING CODE 7555-01-P